DEPARTMENT OF ENERGY

Federal Energy Regulatory Commission

[Docket No. RP01-163-000]

Dominion Transmission, Inc; Notice of Proposed Changes in FERC Gas Tariff

December 6, 2000.

Take notice that on December 1, 2000, Dominion Transmission Inc. (DTI), tendered for filing as part of its FERC Gas Tariff, Third Revised Volume No. 1, the following revised tariff sheets, with an effective date of the January 1, 2001:

Fourth Revised Sheet No. 31

Fourth Revised Sheet No. 32

DTI states that the purpose of this filing is to adopt the GRI surcharges established by Article II, Sections 1.2 through 1.5 of the January 21, 1998 “Stipulation and Agreement Concerning GRI Funding, ” as approved by the Commission in Docket Nos. RP97-149-003, et al. (“GRI Settlement”). DTI further states that the rates established by its filing correspond to those set forth in Appendix A to the GRI Settlement; the unit rate impact on DTI's GRI Adjustment Charge for each affected rate schedule is summarized in DTI's transmittal letter.

DTI states that copies of its letter of transmittal and enclosures have been served upon DTI's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31559 Filed 12-11-00; 8:45 am]

BILLING CODE 6717-01-M